DEPARTMENT OF ENERGY

Federal Energy Regulatory Commission

Combined Notice of Filings #3

Take notice that the Commission received the following electric rate filings:

Docket Numbers: ER23-245-000.

Applicants: Frenchtown I Solar, LLC.

Description: Compliance filing: Reactive power informational filing to be effective N/A.

Filed Date: 10/28/22.

Accession Number: 20221028-5158.

Comment Date: 5 p.m. ET 11/18/22.

Docket Numbers: ER23-246-000.

Applicants: Happy Jack Windpower, LLC.

Description: § 205(d) Rate Filing: Notice of Non-Material Change of Status & Tariff Amendment Filing (Happy Jack) to be effective 12/28/2022.

Filed Date: 10/28/22.

Accession Number: 20221028-5159.

Comment Date: 5 p.m. ET 11/18/22.

Docket Numbers: ER23-247-000.

Applicants: Frenchtown II Solar, LLC.

Description: Compliance filing: Reactive power informational filing to be effective N/A.

Filed Date: 10/28/22.

Accession Number: 20221028-5161.

Comment Date: 5 p.m. ET 11/18/22.

Docket Numbers: ER23-248-000.

Applicants: Frenchtown III Solar, LLC.

Description: Compliance filing: Reactive power informational filing to be effective N/A.

Filed Date: 10/28/22.

Accession Number: 20221028-5166.

Comment Date: 5 p.m. ET 11/18/22.

Docket Numbers: ER23-249-000.

Applicants: Lakehurst Solar, L.L.C.

Description: Compliance filing: Reactive power informational filing to be effective N/A.

Filed Date: 10/28/22.

Accession Number: 20221028-5167.

Comment Date: 5 p.m. ET 11/18/22.

Docket Numbers: ER23-250-000.

Applicants: PA Solar Park, LLC.

Description: Compliance filing: Reactive power informational filing to be effective N/A.

Filed Date: 10/28/22.

Accession Number: 20221028-5169.

Comment Date: 5 p.m. ET 11/18/22.

Docket Numbers: ER23-251-000.

Applicants: Pilesgrove Solar, LLC.

Description: Compliance filing: Reactive power informational filing to be effective N/A.

Filed Date: 10/28/22.

Accession Number: 20221028-5170.

Comment Date: 5 p.m. ET 11/18/22.

Docket Numbers: ER23-252-000.

Applicants: PA Solar Park II, LLC.

Description: Compliance filing: Reactive power informational filing to be effective N/A.

Filed Date: 10/28/22.

Accession Number: 20221028-5171.

Comment Date: 5 p.m. ET 11/18/22.

Docket Numbers: ER23-253-000.

Applicants: Clean Path New York LLC.

Description: Request of Clean Path New York LLC for Prospective Tariff Waiver of the requirement in Section 25.6.2.3.1 of Attachment S of the NYISO OATT and Expedited Action.

Filed Date: 10/28/22.

Accession Number: 20221028-5174.

Comment Date: 5 p.m. ET 11/18/22.

Docket Numbers: ER23-254-000.

Applicants: Oakland Power Company LLC.

Description: § 205(d) Rate Filing: Annual RMR Agreement and Schedule F Informational Filings to be effective 1/1/2023.

Filed Date: 10/28/22.

Accession Number: 20221028-5173.

Comment Date: 5 p.m. ET 11/18/22.

Docket Numbers: ER23-255-000.

Applicants: Wabash Valley Power Association, Inc.

Description: § 205(d) Rate Filing: Amendments to FRT for Service to Members to be effective 1/1/2023.

Filed Date: 10/28/22.

Accession Number: 20221028-5175.

Comment Date: 5 p.m. ET 11/18/22.

Docket Numbers: ER23-256-000.

Applicants: Silver Sage Windpower, LLC.

Description: § 205(d) Rate Filing: Notice of Non-Material Change of Status & Tariff Amendment Filing (Silver Sage) to be effective 12/28/2022.

Filed Date: 10/28/22.

Accession Number: 20221028-5178.

Comment Date: 5 p.m. ET 11/18/22.

Docket Numbers: ER23-257-000.

Applicants: San Diego Gas & Electric Company.

Description: § 205(d) Rate Filing: 2023 TRBAA Update to be effective 10/28/2022.

Filed Date: 10/28/22.

Accession Number: 20221028-5182.

Comment Date: 5 p.m. ET 11/18/22.

Docket Numbers: ER23-258-000.

Applicants: Palmer Solar, LLC.

Description: § 205(d) Rate Filing: Notice of Non-Material Change of Status & Tariff Amendment Filing (Palmer) to be effective 12/28/2022.

Filed Date: 10/28/22.

Accession Number: 20221028-5186.

Comment Date: 5 p.m. ET 11/18/22.

Docket Numbers: ER23-259-000.

Applicants: Three Buttes Windpower, LLC.

Description: § 205(d) Rate Filing: Notice of Non-Material Change of Status & Tariff Amendment Filing (Three Buttes) to be effective 12/28/2022.

Filed Date: 10/28/22.

Accession Number: 20221028-5190.

Comment Date: 5 p.m. ET 11/18/22.

Docket Numbers: ER23-260-000.

Applicants: AEP Generating Company.

Description: § 205(d) Rate Filing: AEP Generating Company Unit Power Agreements to be effective 1/1/2023.

Filed Date: 10/28/22.

Accession Number: 20221028-5192.

Comment Date: 5 p.m. ET 11/18/22.

Docket Numbers: ER23-261-000.

Applicants: Hawtree Creek Farm Solar, LLC.

Description: § 205(d) Rate Filing: Notice of Change in Status to be effective 12/28/2022.

Filed Date: 10/28/22.

Accession Number: 20221028-5201.

Comment Date: 5 p.m. ET 11/18/22.

Docket Numbers: ER23-262-000.

Applicants: Top of the World Wind Energy, LLC.

Description: § 205(d) Rate Filing: Notice of Non-Material Change of Status & Tariff Amendment Filing (TOW) to be effective 12/28/2022.

Filed Date: 10/28/22.

Accession Number: 20221028-5202.

Comment Date: 5 p.m. ET 11/18/22.

Docket Numbers: ER23-263-000.

Applicants: ENGIE 2020 ProjectCo-NH1 LLC.

Description: § 205(d) Rate Filing: Notice of Change in Status to be effective 12/28/2022.

Filed Date: 10/28/22.

Accession Number: 20221028-5203.

Comment Date: 5 p.m. ET 11/18/22.

Docket Numbers: ER23-264-000.

Applicants: Brantley Farm Solar, LLC.

Description: § 205(d) Rate Filing: SE Category and MBR Tariff Updates to be effective 10/31/2022.

Filed Date: 10/28/22.

Accession Number: 20221028-5208.

Comment Date: 5 p.m. ET 11/18/22.

Docket Numbers: ER23-265-000.

Applicants: Buckeye Power, Inc., PJM Interconnection, L.L.C.

Description: § 205(d) Rate Filing: Buckeye Power, Inc. submits tariff filing per 35.13(a)(2)(iii: Revised SA No. 4753—NITSA Among PJM and Buckeye Power, Inc. to be effective 10/1/2021.

Filed Date: 10/28/22.

Accession Number: 20221028-5219.

Comment Date: 5 p.m. ET 11/18/22.

Docket Numbers: ER23-266-000.

Applicants: Fox Creek Farm Solar, LLC.

Description: § 205(d) Rate Filing: SE Category and MBR Tariff Updates to be effective 10/31/2022.

Filed Date: 10/28/22.

Accession Number: 20221028-5238.

Comment Date: 5 p.m. ET 11/18/22.

Docket Numbers: ER23-267-000.

Applicants: Innovative Solar 54, LLC.

Description: § 205(d) Rate Filing: SE Category and MBR Tariff Updates to be effective 10/31/2022.

Filed Date: 10/28/22.

Accession Number: 20221028-5244.

Comment Date: 5 p.m. ET 11/18/22.

Docket Numbers: ER23-268-000.

Applicants: Innovative Solar 67, LLC.

Description: § 205(d) Rate Filing: SE Category and MBR Tariff Updates to be effective 10/31/2022.

Filed Date: 10/28/22.

Accession Number: 20221028-5251.

Comment Date: 5 p.m. ET 11/18/22.

Docket Numbers: ER23-269-000.

Applicants: Kit Carson Windpower, LLC.

Description: § 205(d) Rate Filing: Notice of Non-Material Change of Status & Tariff Amendment Filing (Kit Carson) to be effective 12/28/2022.

Filed Date: 10/28/22.

Accession Number: 20221028-5263.

Comment Date: 5 p.m. ET 11/18/22.

Docket Numbers: ER23-270-000.

Applicants: Duke Energy Florida, LLC.

Description: Tariff Amendment: DEF-Gulf Power SA 348 Termination to be effective 12/28/2022.

Filed Date: 10/28/22.

Accession Number: 20221028-5274.

Comment Date: 5 p.m. ET 11/18/22.

Docket Numbers: ER23-271-000.

Applicants: Arizona Public Service Company.

Description: Compliance filing: APS-WECC Soft Price Cap Filing to be effective N/A.

Filed Date: 10/28/22.

Accession Number: 20221028-5275.

Comment Date: 5 p.m. ET 11/18/22.

Docket Numbers: ER23-272-000.

Applicants: Avangrid Renewables, LLC.

Description: Compliance filing: Filing Respecting Spot Sales at Prices Exceeding the WECC “Soft” Cap to be effective N/A.

Filed Date: 10/28/22.

Accession Number: 20221028-5279.

Comment Date: 5 p.m. ET 11/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2022.
Debbie-Anne A. Reese,
Deputy Secretary.

[FR Doc. 2022-23936 Filed 11-2-22; 8:45 am]

BILLING CODE 6717-01-P